DEPARTMENT OF STATE

[Public Notice 4983]

Certification Under Section 584(b) of the Foreign Operations, Export Financing, and Related Programs Appropriations Act, 2005 (Div. D, P.L. 108-447)

Pursuant to the authority vested in me as Secretary of State, including under section 584(b) of the Foreign Operations, Export Financing, and Related Programs Appropriations Act, 2005 (Div. D, P.L. 108-447), I hereby certify that:

1. The role of the Guatemalan military has been limited, in doctrine and practice, to substantially those activities in defense of Guatemala's sovereignty and territorial integrity that are permitted by the 1996 Peace Accords, and that the Government of Guatemala is taking steps to pass a new governing law of the Army (Ley Constitutiva del Ejercito).

2. The Guatemalan military is cooperating with civilian judicial authorities, including providing full cooperation on access to witnesses, documents and classified intelligence files, in investigations and prosecutions of military personnel who have been implicated in human rights violations and other criminal activity.

3. The Government of Guatemala is working with the United Nations to resolve legal impediments to the establishment of the Commission for the Investigation of Illegal Groups and Clandestine Security Organizations (CICIACS), so that CICIACS can effectively accomplish its mission of investigating and bringing to justice illegal groups and members of clandestine security organizations.

4. The Government of Guatemala is continuing its efforts to make the military budget process transparent and accessible to civilian authorities and to the public, for both present and past expenditures.

5. The Government of Guatemala is working to facilitate the prompt establishment of an office in Guatemala of the United Nations High Commissioner for Human Rights with the unimpeded authority to investigate and report on human rights in Guatemala.

6. The Government of Guatemala is taking steps to increase its efforts to combat narcotics trafficking and organized crime.

This certification shall be published in the Federal Register and copies shall be transmitted to the appropriate committees of Congress.

Dated: January 25, 2005.
Colin L. Powell,
Secretary of State, Department of State.

[FR Doc. 05-1846 Filed 1-31-05; 8:45 am]

BILLING CODE 4710-29-P